FEDERAL RETIREMENT THRIFT INVESTMENT BOARD

Notice of Board Meeting

DATES: November 21, 2024 at 10 a.m. ET.

ADDRESSES: Telephonic. Dial-in (listen only) information: Number: 1-202-599-1426, Code: 133 325 139 #; or via web: https://www.frtib.gov/.

FOR FURTHER INFORMATION CONTACT: Kimberly Weaver, Office of External Affairs, (202) 942-1640.

SUPPLEMENTARY INFORMATION:

Board Meeting Agenda

Open Session

1. Approval of the October 22, 2024, Board Meeting Minutes

2. Monthly Reports

(a) Participant Report

(b) Investment Report

(c) Legislative Report

3. Quarterly Reports

(d) Metrics Report

Closed Session

4. Information covered under 5 U.S.C. 552b(c)(6), (c)(9)(B), and (c)(10).

(Authority: 5 U.S.C. 552b (e)(1))

Dated: November 13, 2024.
Dharmesh Vashee,
General Counsel, Federal Retirement Thrift Investment Board.

[FR Doc. 2024-26805 Filed 11-15-24; 8:45 am]

BILLING CODE 6760-01-P